FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 28, 2014.

A. Federal Reserve Bank of Minneapolis (Jacqueline K. Brunmeier, Assistant Vice President) 90 Hennepin Avenue, Minneapolis, Minnesota 55480-0291:

1. Shirley R. Borgerding, Belgrade, Minnesota, individually and as part of the Borgerding Family Group acting in concert, to retain voting shares of NASB Shares, Inc., and thereby indirectly retain voting shares of North American State Bank, both in Belgrade, Minnesota.

In connection with this application, the Shirley R. Borgerding Trust, the George N. Borgerding Trust, and Marjorie Borgerding, as trustee of the James R. Borgerding Trust of 1994, have applied to become members of the Borgerding Family Group. The Borgerding Family Group includes Shirley R. Borgerding; George N. Borgerding; the Shirley R. Borgerding Trust and its co-trustees, George and Shirley Borgerding; the George N. Borgerding Trust and its co-trustees, George and Shirley Borgerding; and Brian Borgerding, all of Belgrade, Minnesota; Paul Borgerding; Willmar, Minnesota; The James R. Borgerding Trust of 1994 and its trustee, Marjorie Borgerding, both of Fort Worth, Texas; Mary Gerding, Chicago, Illinois; and the Mark E. Borgerding Trust and its trustee, Mark E. Borgerding, both of Belgrade, Minnesota.

B. Federal Reserve Bank of San Francisco (Gerald C. Tsai, Director, Applications and Enforcement) 101 Market Street, San Francisco, California 94105-1579:

1. Scott M. Browning, Sally W. Browning, Gay Browning, James M. Browning, Eliza R. Browning, all of Salt Lake City, Utah; Diane B. Oblock, Hannah B. Oblock, Alyson B. Oblock, all of Richmond, Utah; Jennifer H. Kawasaki, Gallatin Gateway, Montana; Christine H. Chambers, Tremonton, Utah; The Scott M. Browning Living Trust (Scott Browning and Sally Browning trustees), The Gay Browning Living Trust (Gay Browning and Scott Browning Trustees), The Diane B. Oblock Living Trust (Diane B. Oblock and Scott M. Browning Trustees), The First Utah Irrevocable Trust for benefit of Alyson B. Oblock (Alyson B. Oblock and Hannah B. Oblock Trustees), The First Utah Irrevocable Trust for benefit of Hannah B. Oblock (Hannah B. Oblock and Alyson B. Oblock Trustees), The First Utah Irrevocable Trust for benefit of James M. Browning (James M. Browning and Eliza R. Browning Trustees), The First Utah Irrevocable Trust for benefit of Eliza R. Browning (Eliza R. Browning and James M. Browning Trustees), The First Utah Irrevocable Trust for benefit of Robert T. W. Browning (James M. Browning and Eliza R. Browning Trustees), The First Utah Irrevocable Trust for benefit of Jennifer H. Kawasaki (Jennifer H. Kawasaki and Christine H. Chambers Trustees), The First Utah Irrevocable Trust for benefit of Christine H. Chambers (Christine H. Chambers and Jennifer H. Kawasaki Trustees); to acquire and retain voting shares of First Utah Bancorporation, and thereby indirectly acquire and retain voting shares of First Utah Bank, both in Salt Lake City, Utah.

Board of Governors of the Federal Reserve System, January 8, 2014.
Michael J. Lewandowski,
Associate Secretary of the Board.

[FR Doc. 2014-00356 Filed 1-10-14; 8:45 am]

BILLING CODE 6210-01-P